DEPARTMENT OF COMMERCE

National Oceanic and Atmospheric Administration

[RIN 0648-XA479]

International Fisheries; Atlantic Highly Migratory Species; Bluefin Tuna Import, Export, Re-Export

AGENCY: National Marine Fisheries Service (NMFS), National Oceanic and Atmospheric Administration (NOAA), Commerce.

ACTION: Notice of non-compliance with international commission standards.

SUMMARY: Through the International Commission for the Conservation of Atlantic Tunas (ICCAT), it has come to the attention of NMFS that Libyan vessels may not be meeting ICCAT requirements for Atlantic bluefin tuna fishing in the Mediterranean. NMFS advises importers to take great care with respect to any import of Atlantic bluefin tuna harvested by Libyan vessels in 2011, as these shipments may have been illegally harvested and could be subject to increased scrutiny and potential liability.

FOR FURTHER INFORMATION CONTACT: Questions relating to permits or regulations may be directed to Margo Schulze-Haugen at (301) 713-2334, and questions relating to ICCAT requirements may be directed to Rebecca Lent at (301) 427-8368.

SUPPLEMENTARY INFORMATION: Libya's inability to participate in the ICCAT regional observer program this year as confirmed by the ICCAT Administration, and its current failure to transmit vessel monitoring system (VMS) data is of primary concern. ICCAT requires that large scale (> 24 m) purse seine vessels fishing for eastern Atlantic and Mediterranean bluefin tuna carry an ICCAT-assigned regional observer and transmit certain data directly to ICCAT using a satellite-based vessel monitoring system. ICCAT requirements provide that such purse seine vessels without an ICCAT-placed observer shall not be authorized to fish or to operate in the bluefin tuna fishery. Thus, any product taken by Libya's purse seine fleet under these conditions in 2011 would not be in compliance with ICCAT conservation and management measures.

Failure to implement these ICCAT requirements is subject to action at the national and international levels. In that regard, other ICCAT members that import bluefin tuna, in particular Japan and the European Union, have indicated that they will prohibit the import of Libyan-caught bluefin tuna if harvested in 2011 contrary to the requirements of ICCAT. The United States has implemented through regulation its obligation under ICCAT's Bluefin Catch Document program to require, as a condition of importation into the United States and conduct of other transactions (such as export and re-export), that all bluefin tuna shipments be accompanied by a properly completed catch document that has been validated by a government official or other authorized individual of the flag or exporting State (unless the fish are tagged) (73 FR 31380, June 2, 2008). Improperly documented bluefin tuna may be prohibited from importation into the United States or be subject to other sanctions.

Dated: June 28, 2011.
Samuel D. Rauch III,
Deputy Assistant Administrator for Regulatory Programs, National Marine Fisheries Service.

[FR Doc. 2011-16619 Filed 6-30-11; 8:45 am]

BILLING CODE 3510-22-P